DEPARTMENT OF THE INTERIOR

Bureau of Land Management

[NM-010-1220-DH]

Notice of Availability of a Proposed Resource Management Plan Amendment (RMPA) and Final Environmental Impact Statement (FEIS) ; Albuquerque Field Office, New Mexico

AGENCY: Bureau of Land Management, Interior.

ACTION: Notice.

SUMMARY: The Bureau of Land Management (BLM) Albuquerque Field Office has completed a Proposed RMPA/FEIS. This document contains a 20-year strategy for managing the El Malpais National Conservation Area (NCA) and contiguous lands. The document also addresses activity level plans for these lands and as required by P.L. 100-225 makes a recommendation of the suitability/nonsuitability of the Chain of Craters Wilderness Study Area for inclusion in the wilderness system. The document also recommends to Congress the inclusion of certain additional contiguous acres in the Cebolla Wilderness and the addition of other acres to the NCA.

Copies are available for review at public libraries in Albuquerque and nearby cities or towns. Additional copies are available at the following BLM Offices: Albuquerque Field Office, 435 Montanño Road NE, Albuquerque, New Mexico 87107; New Mexico State Office, 1474 Rodeo Road, Santa Fe, New Mexico 87505. The document will also be available on the internet at www.nm.blm.gov.

DATES: Protests related to decisions at the Resource Management Plan level must be filed in writing to: Director (WO-210), Bureau of Land Management, Attention: Ms. Brenda Williams, 1849 C Street NW., Washington, DC 20240. Protests must be postmarked no later than October 30, 2000.

FOR FURTHER INFORMATION CONTACT: Kent Hamilton, Planning and Environmental Coordinator, Bureau of Land Management, 435 Montaño Road NE, Albuquerque, New Mexico 87107-4935, Telephone (505) 761-8746.

SUPPLEMENTARY INFORMATION: This proposed RMPA /FEIS is a plan for managing NCA and contiguous public lands and resources. The plan addresses the following public land issues that amend the Rio Puerco RMP: Recreation (Visual Resource Management), Access and Transportation, Wilderness Suitability, and Boundary and Land Tenure Adjustments. Issues addressed at the activity plan level are: Recreation, Facility Development, Access and Transportation, Wilderness Management, Wilderness Suitability, American Indian Uses and Traditional Cultural Practices, Cultural Resources, Wildlife Habitat, Vegetation, and Boundary & Land Ownership Adjustments.

Under the Proposed Plan BLM would provide:

• A combination of developed and dispersed recreational opportunities.

• Approximately 105,000 acres closed to vehicle and mechanical access.

• Approximately 273 miles of designated vehicle routes.

• Approximately 101,000 acres of designated wilderness with approximately 4,000 additional acres recommended for designation.

• Emphasis to cultural resource conservation for future use and recommend additional acreage for inclusion in the NCA to provide for cultural resource management.

• Management of wildlife habitat for habitat improvement.

• Vegetative management practices to emphasize health of the land and improvement of ecological conditions.

• Recommendations to Congress for boundary changes that will provide for more effective resource management.

Public input has occurred throughout the planning process and public comments and BLM's responses to these comments are included as an important part of this proposed plan.

Dated: September 18, 2000.
Edwin J. Singleton,
Field Manager.

[FR Doc. 00-24368 Filed 9-21-00; 8:45 am]

BILLING CODE 4310-FB-P